DEPARTMENT OF THE TREASURY

Office of Thrift Supervision

La Jolla Bank, FSB, La Jolla, CA; Notice of Appointment of Receiver

Notice is hereby given that, pursuant to the authority contained in section 5(d)(2) of the Home Owners' Loan Act, the Office of Thrift Supervision (OTS) has duly appointed the Federal Deposit Insurance Corporation as sole Receiver for La Jolla Bank, FSB, La Jolla, California (OTS No. 08247), on February 19, 2010.

Dated: February 22, 2010.
By the Office of Thrift Supervision.
Sandra E. Evans,
Federal Register Liaison.

[FR Doc. 2010-4038 Filed 3-2-10; 8:45 am]

BILLING CODE 6720-01-M